DEPARTMENT OF TRANSPORTATION

Coast Guard

33 CFR Part 165

[CGD01-01-223]

RIN 2115-AA97

Safety Zone; Fore River Bridge Repairs—Weymouth, MA

AGENCY: Coast Guard, DOT.

ACTION: Temporary final rule.

SUMMARY: The Coast Guard is establishing a temporary safety zone for the Fore River (Route 3A) Bridge Repairs, starting January 1, 2002 until September 30, 2002, in Weymouth, MA. The safety zone is to ensure the safe operation of a 55-foot-wide crane barge underneath the Fore River Bridge in order to conduct repair operations, Monday through Saturday of each week during the effective time period and is necessary to protect maritime traffic in the area of the safety zone. The safety zone prohibits vessels from operating within 30-feet of the barge.

DATES: This rule is effective from January 1, 2002 until September 30, 2002.

ADDRESSES: Documents as indicated in this preamble are available for inspection or copying at Marine Safety Office Boston, 455 Commercial Street, Boston, MA between the hours of 8 a.m. and 3 p.m., Monday through Friday, except Federal holidays.

FOR FURTHER INFORMATION CONTACT: Chief Petty Officer Michael Popovich, Marine Safety Office Boston, Waterways Safety and Response Division, at (617) 223-3067.

SUPPLEMENTARY INFORMATION:

Regulatory History

Under 5 U.S.C. 553(d)(3), the Coast Guard finds that good cause exists for making this rule effective less than 30 days after publication in the Federal Register. Discussions were held with all interests most likely to be affected by this safety zone. These include Massachusetts Highway Department, The Middlesex Corporation (TMC), Weymouth Fore River operators, barge and ferry companies, and recreational boater representatives. These interests agree that the parameters of the zone will not unduly impair business and unscheduled operations or transits of vessels. Therefore, notice and comment is unnecessary. Any delay encountered in this regulation's effective date would be unnecessary and contrary to public interest since immediate action is needed to protect marine traffic from bridge construction hazards while transiting a portion of the Fore River, Weymouth, Massachusetts, during the Fore River Bridge repairs. This safety zone should have minimal impact on vessel transits due to the fact that the safety zone does not block the entire channel, and procedures have been established for the movement of the construction barge, should larger vessels that are unable to transit around the barge while in the channel, need to transit the area. Notifications will be made to the maritime community via notice to mariners and marine information broadcasts informing them of boundaries of the zone.

Background and Purpose

A previous rulemaking, published at 66 FR 13851, effective from February 21 through December 31, 2001, established a safety zone identical to that established in this rulemaking to conduct repairs to the Fore River Bridge. Additional time is needed to complete the repairs required to allow for the proper operation of the bridge. The safety zone allows TMC to place a 55-foot-wide crane barge in the Fore River underneath the Fore River Bridge to conduct repair operations, Monday through Saturday of each week from January 1, 2002 through September 30, 2002. This safety zone prohibits vessels from operating within 30-feet of the barge. Most marine traffic may transit safely outside of the safety zone during the repairs. In the event a large vessel should need to transit the channel, the TMC barge shall move upon request. Requests to move the barge should be made directly to TMC at (781) 665-3261 or (978) 590-2754 with as much advance notice as possible (at least 8 hours is preferred). The Captain of the Port anticipates minimal negative impact on vessel traffic due to this event. Public notifications will be made prior to the effective period via safety marine information broadcasts.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

The Coast Guard expects the economic impact of this rule to be so minimal that a full Regulatory Evaluation under paragraph 10e of the regulatory policies and procedures of DOT is unnecessary.

Although this regulation prevents traffic from transiting a portion of the Weymouth Fore River during this bridge repair period, the effect of this regulation will not be significant for several reasons: maritime interests, which frequently use the channel, have provided input into the scheduling of the bridge repairs, the safety zone does not block the entire channel, advanced notice will be given through marine broadcasts, and the construction barge will be required to move upon request for larger vessels unable to transit around it while in the channel.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit or anchor in a portion of the Weymouth Fore River between January 1 and September 30, 2002. This safety zone will not have a significant economic impact on a substantial number of small entities for the following reasons: The safety zone does not block the entire channel, advanced notice will be given through marine broadcasts, and the construction barge will be required to move upon request for larger vessels unable to transit around it while in the channel.

Assistance for Small Entities

Under subsection 213(a) of the Small Business Regulatory Enforcement Fairness Act of 1996 [Pub. L. 104-121], the Coast Guard wants to assist small entities in understanding this final rule so that they can better evaluate its effects on them and participate in the rulemaking. If your small business or organization would be affected by this final rule and you have questions concerning its provisions or options for compliance, please call Chief Petty Officer Michael Popovich, Marine Safety Office Boston, at (617) 223-3067. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule would call for no new collection of information under the Paperwork Reduction Act of 1995 (44 U.S.C. 3501-3520).

Federalism

The Coast Guard analyzed this rule under Executive Order 13132 and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Safety Risks. This rule is not an economically significant rule and does not pose an environmental risk to health or risk to safety that may disproportionately affect children.

Indian Tribal Governments

This rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

The Coast Guard considered the environmental impact of this rule and concluded that, under figure 2-1, (34)(g), of Commandant Instruction M16475.lD, this rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. From January 1, 2002 until September 30, 2002, add temporary § 165.T01-223 to read as follows:

§ 165.T01-223 Safety Zone: Fore River Bridge Repairs—Weymouth, Massachusetts.

(a) Location. The following area is a safety zone: All waters of the Weymouth Fore River within a 30-foot radius of The Middlesex Corporation (TMC) construction barge located under the Fore River Bridge.

(b) Regulations. (1) In accordance with the general regulations in § 165.23 of this part, entry into or movement within this zone is prohibited unless authorized by the Captain of the Port Boston.

(2) All vessel operators shall comply with the instructions of the COTP or the designated on-scene U.S. Coast Guard patrol personnel. On-scene Coast Guard patrol personnel include commissioned, warrant, and petty officers of the Coast Guard on board Coast Guard, Coast Guard Auxiliary, local, state, and federal law enforcement vessels.

(3) No person may enter the waters within the boundaries of the safety zone unless previously authorized by the Captain of the Port, Boston or his authorized patrol representative.

Dated: December 14, 2001.
B.M. Salerno,
Captain, U.S. Coast Guard, Captain of the Port, Boston, Massachusetts.

[FR Doc. 02-505 Filed 1-8-02; 8:45 am]

BILLING CODE 4910-15-P